DEPARTMENT OF AGRICULTURE

Agricultural Marketing Service

[Document Number AMS-AMS-22-0025]

Competition and the Intellectual Property System: Seeds and Other Agricultural Inputs

AGENCY: Agricultural Marketing Service, USDA.

ACTION: Notice; extension of comment period.

SUMMARY: The Agricultural Marketing Service (AMS) is providing an additional 30 days for comments and information from the public to assist AMS in preparing the report required by the Executive Order titled “Promoting Competition in the American Economy,” which creates a White House Competition Council and directs Federal agency actions to enhance fairness and competition across America's economy. Among other things, the Executive Order directs the Secretary of Agriculture to prepare a report on concerns and strategies for ensuring that the intellectual property (IP) system, while incentivizing innovation, does not also unnecessarily reduce competition in seed and other input markets.

DATES: The comment period for the notice originally published on March 17, 2022, at 87 FR 15198, is extended. Comments must be submitted on or before June 15, 2022.

ADDRESSES: All written comments in response to this notice should be posted online at https://www.regulations.gov. Comments received will be posted without change, including any personal information provided. All comments should reference the docket number AMS-AMS-22-0025, the date of submission, and the page number of this issue of the Federal Register. Comments may also be sent to Jaina Nian, Agricultural Marketing Service, USDA, Room 2055-S, STOP 0201, 1400 Independence Avenue SW, Washington, DC 20250-0201. Comments will be made available for public inspection at the above address during regular business hours or via the at https://www.regulations.gov.

FOR FURTHER INFORMATION CONTACT: Jaina Nian, Agricultural Marketing Service, at (202) 378-2541; or by email at jaina.nian@usda.gov.

SUPPLEMENTARY INFORMATION: On July 9, 2021, President Biden issued an Executive Order titled “Promoting Competition in the American Economy,” which creates a White House Competition Council and directs Federal agency actions to enhance fairness and competition across America's economy. Among other things, the Executive Order directs the Secretary of Agriculture (the Secretary) to prepare a report on concerns and strategies for ensuring that the intellectual property (IP) system, while incentivizing innovation, does not also unnecessarily reduce competition in seed and other input markets.

A notice, published in the Federal Register on March 17, 2022 (87 FR 15198), requested comments and information from the public to assist AMS in preparing the report required by the Executive Order and advancing policy steps on seeds and other inputs identified in and developed by the report. This notice established a 60-day comment period, ending May 16, 2022. As the comment period overlapped a critical time for agricultural producers to plant crops and for academics to conclude semesters, AMS is extending the public comment period for an additional 30 days to encourage additional public comment.

Melissa Bailey,
Associate Administrator, Agricultural Marketing Service.

[FR Doc. 2022-10450 Filed 5-13-22; 8:45 am]

BILLING CODE P